DEPARTMENT OF HEALTH AND HUMAN SERVICES

Centers for Medicare & Medicaid Services

[Document Identifier: CMS-10440]

Agency Information Collection Activities: Proposed Collection; Comment Request; Correction

AGENCY: Centers for Medicare & Medicaid Services (CMS), HHS.

ACTION: Notice; correction.

SUMMARY: On April 6, 2022, CMS published a notice in the Federal Register that sought comment on a collection of information concerning CMS-10440 (OMB control number 0938-1191) entitled “Data Collection to Support Eligibility Determinations for Insurance Affordability Programs and Enrollment through Health Insurance Marketplaces, Medicaid and Children's Health Insurance Program Agencies.” In one other instance the title was correct and in another the title was incorrect. This document corrects the incorrect occurrence.

FOR FURTHER INFORMATION CONTACT: William N. Parham, III, (410) 786-4669.

SUPPLEMENTARY INFORMATION:

I. Background

In the April 6, 2022, issue of the Federal Register (87 FR 19957), we published a Paperwork Reduction Act notice requesting a 60-day public comment period for the information collection request identified under CMS-10440, OMB control number 0938-1191, and titled “Data Collection to Support Eligibility Determinations for Insurance Affordability Programs and Enrollment through Health Insurance Marketplaces, Medicaid and Children's Health Insurance Program Agencies.”

II. Explanation of Error

In the April 6, 2022, notice, the title associated with the information collection request identified under CMS-10440 is correctly listed on page 19957, in the second column, in the third paragraph under “Contents.” However, the title on page 19958 in the first column, in the second paragraph, beginning on line 11, the “Title of Information Collection:” incorrectly reads, “Medicare Coverage of Items and Services in FDA Investigational Device Exemption Clinical Studies—Revision of Medicare Coverage.” This notice corrects the “Title of Information Collection.” All of the other information contained in the April 6, 2022, notice is correct. The related public comment period remains in effect and ends June 6, 2022.

III. Correction of Error

In the Federal Register of April 6, 2022, in FR Doc. 2022-07314, on page 19958, in the first column, in the second paragraph, under “Title of Information Collection;” in lines 11-15, correct “Medicare Coverage of Items and Services in FDA Investigational Device Exemption Clinical Studies—Revision of Medicare Coverage” to read, “Data Collection to Support Eligibility Determinations for Insurance Affordability Programs and Enrollment through Health Insurance Marketplaces, Medicaid and Children's Health Insurance Program Agencies;”.

Dated: April 12, 2022.
William N. Parham, III,
Director, Paperwork Reduction Staff, Office of Strategic Operations and Regulatory Affairs.

[FR Doc. 2022-08221 Filed 4-15-22; 8:45 am]

BILLING CODE 4120-01-P